DEPARTMENT OF TRANSPORTATION

Maritime Administration

[Docket No. MARAD-2000-6904]

Information Collection Available for Public Comments and Recommendations

ACTION: Notice and request for comments.

SUMMARY: In accordance with the Paperwork Reduction Act of 1995, this notice announces the Maritime Administration's (MARAD) intentions to request approval for three years of an existing information collection entitled “Information to Determine Seamen's Reemployment Rights—National Emergency.”

DATES: Comments should be submitted on or before April 17, 2000.

FOR FURTHER INFORMATION CONTACT: Christopher Krusa, Office of Maritime Labor, Training, and Safety, Maritime Administration, 400 Seventh Street, SW, Room 7302, Washington, D.C. 20590, telephone number—202-366-2648. Copies of this collection can also be obtained from that office.

SUPPLEMENTARY INFORMATION:

Title of Collection: Information to Determine Seamen's Reemployment Rights—National Emergency.

Type of Request: Approval of an existing information collection.

OMB Control Number: 2133-0526.

Form Number: None.

Expiration Date of Approval: Three years from the date of approval.

Summary of Collection of Information: MARAD is requesting approval of this collection in an effort to implement provisions of the Maritime Security Act of 1996. These provisions amend the Merchant Marine Act, 1936, to grant reemployment rights and other benefits to certain merchant seamen serving on vessels used by the United States for a war, armed conflict, national emergency, or maritime mobilization need. As such, this rule establishes the procedure for obtaining the necessary MARAD certification for reemployment rights and other benefits conferred by statute and MARAD's assistance in pursuing these statutory rights and benefits.

Need and Use of the Information: This information collection requires merchant seamen to provide documents indicating their period of employment and their merchant mariner's status. The information provided will allow MARAD to determine eligibility for reemployment rights when the employment is related to a designated national service.

Description of Respondents: U.S. merchant seamen who have completed designated national service in time of war or national emergency and are seeking reemployment with a prior employer.

Annual Responses: 50 responses.

Annual Burden: 50 hours.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., et. Monday through Friday, except Federal Holidays. An electronic version of this document is available on the World Wide Web at http://dms.dot.gov.

Dated: February 10, 2000.
By Order of the Maritime Administrator.
Joel C. Richard,
Secretary.

[FR Doc. 00-3526 Filed 2-14-00; 8:45 am]

BILLING CODE 4910-81-P